DEPARTMENT OF TRANSPORTATION

Federal Aviation Administration

Notice of Passenger Facility Charge (PFC) Approvals and Disapprovals

AGENCY: Federal Aviation Administration (FAA), DOT.

ACTION: Monthly Notice of PFC Approvals and Disapprovals. In December 2006, there were two applications approved. This notice also includes information on seven other applications, one approved in August 2006, and the remaining six approved in November 2006, inadvertently left off the August 2006 and November 2006 notices, respectively. Additionally, nine approved amendments to previously approved applications are listed.

SUMMARY: The FAA publishes a monthly notice, as appropriate, of PFC approvals and disapprovals under the provisions of the Aviation Safety and Capacity Expansion Act of 1990 (Title IX of the Omnibus Budget Reconciliation Act of 1990) (Pub. L. 101-508) and Part 158 of the Federal Aviation Regulations (14 CFR Part 158). This notice is published pursuant to paragraph d of § 158.29.

PFC Applications Approved

Public Agency: City of Lubbock, Texas.

Application Number: 06-06-C-00-LBB.

Application Type: Impose and use a PFC.

PFC Level: $3.00.

Total PFC Revenue Approved in This Decision: $9,731,125.

Earliest Charge Effective Date: February 1, 2007.

Estimated Charge Expiration Date: March 1, 2013.

Classes of Air Carriers Not Required to Collect PFC's: (1) Part 135 air taxi/commercial operators filing FAA Form 1800-31; (2) commuters and small certificated air carriers filing Department of Transportation (DOT) Form T-100 for non-scheduled enplanements; (3) large certificated route air carriers filing DOT Form T-100 for non-scheduled enplanements.

Determination: Approved. Based on information contained in the public agency's application, the FAA has determined that each approved class accounts for less than 1 percent of the total annual enplanements at Lubbock International Airport.

Brief Description of Projects Approved for Collection and Use:

PFC administrative fee.

General aviation ramp improvements, phase 2.

Terminal building improvement.

Terminal building improvements.

Conduct airfield pavement study.

Terminal building improvements.

Airfield drainage and safety mitigation improvements.

Entrance road improvements.

Conduct environmental assessment for runway 8/26 extension.

Acquire aircraft rescue and firefighting vehicle.

Decision Date: August 11, 2006.

FOR FURTHER INFORMATION CONTACT: Gullermo Villalobos, Texas Airports Development Office, (817) 222-5657.

Public Agency: Charlottesville-Albermarle Airport Authority, Charlottesville, Virginia.

Application Number: 07-18-C-00-CHO.

Application Type: Impose and use a PFC.

PFC Level: $4.50.

Total PFC Revenue Approved in This Decision: $426,400.

Earliest Charge Effective Date: July 1, 2009.

Estimated Charge Expiration Date: January 1, 2010.

Class of Air Carriers Not Required to Collect PFC'S: Air taxi/commercial operators filing or requested to file FAA Form 1800-31.

Determination: Approved. Based on information contained in the public agency's application, the FAA has determined that the approved class accounts for less than 1 percent of the total annual enplanements at Charlottesville-Albermarle Airport.

Brief Description of Projects Approved for Collection and Use:

Acquire interactive employee training system.

Seal coat general aviation apron.

PFC project administration fees.

Brief Description of Projects Approved for Collection:

Land acquisition—runway 21 runway protection zone.

Construct snow removal equipment building.

Construct access road—west side.

Decision Date: November 20, 2006.

FOR FURTHER INFORMATION CONTACT: Luis Loarte, Washington Airports District Office, (703) 661-1365.

Public Agency: Birmingham Airport Authority, Birmingham, Alabama.

Application Number: 06-05-C-00-BHM

Application Type: Impose and use a PFC.

PFC Level: $3.00.

Total PFC Revenue Approved in This Decision: $1,335,697.

Charge Effective Date: April 1, 2007.

Estimated Charge Expiration Date: August 1, 2007.

Classes of Air Carriers Not Required to Collect PFC's: Air taxi/commercial operators filing FAA Form 1800-31.

Determination: Approved. Based on information contained in the public agency's application, the FAA has determined that the approved class accounts for less than 1 percent of the total annual enplanements at Birmingham International Airport.

Brief Description of Projects Approved for Collection and Use:

Preliminary design of a terminal building renovation.

Install new flight information display system/baggage information display system.

Decision Date: November 27, 2006.

FOR FURTHER INFORMATION CONTACT: Rans Black, Jackson Airports District Office, (601) 664-9892.

Public Agency: Birmingham Airport Authority, Birmingham, Alabama.

Application Number: 06-06-C-00-BHM.

Application Type: Impose and use a PFC.

PFC Level: $3.00.

Total PFC Revenue Approved in This Decision: $5,300,000.

Charge Effective Date: August 1, 2007.

Estimated Charge Expiration Date: October 1, 2008.

Classes of Air Carriers Not Required to Collect PFC's: Air taxi/commercial operators filing FAA Form 1800-31.

Determination: Approved. Based on information contained in the public agency's application, the FAA has determined that the approved class accounts for less than 1 percent of the total annual enplanements at Lubbock International Airport.

Brief Description of Projects Approved for Collection and Use: Runway 24 extension.

Decision Date: November 27, 2006.

FOR FURTHER INFORMATION CONTACT: Rans Black, Jackson Airports District Office, (601) 664-9892.

Public Agency: State of Hawaii, Honolulu, Hawaii.

Application Number: 06-01-C-00-ITO; 06-02-C-00-HNL; 06-01-C-00-OGG; 06-02-C-00-KOA; 06-02-C-00-LIH.

Application Type: Impose and use a PFC.

PFC Level: $3.00.

Total PFC Revenue Approved in This Decision for Collection at all Five Airports: $104,458,000.

Total PFC revenue approved in this decision for collection at Hilo International Airport (ITO): $781,000.

Total PFC revenue approved in this decision for collection at Honolulu International Airport (HNL): $78,050,000.

Total PFC revenue approved in this decision for collection at Kahului Airport: $16,000,000.

Total PFC revenue approved in this decision for collection at Kona International at Keahole Airport (KIOA): $6,281,000.

Total PFC revenue approved in this decision for collection at Lihue Airport: $3,346,000.

Earliest Charge Effective Date at Each Airport: February 1, 2007.

Estimated Charge Expiration Date at Each Airport: July 1, 2011.

Class of Air Carriers Not Required to Collect PFC's at Each Airport: None.

Brief Description of Projects Approved For Collection at ITO, HNL, OGG, KOA, and LIH and Use at HNL:

Aircraft rescue and firefighting facilities improvements.

Elevator and escalator improvements.

Loading bridge replacement.

International arrivals building ceiling replacement.

Air conditioning system improvements, phase II.

PFC administrative costs.

Decision Date: November 27, 2006.

FOR FURTHER INFORMATION CONTACT: Steve Wong, Honolulu Airports District Office, (808) 541-1225.

Public Agency: County of Oneida and City of Rhinelander, Rhinelander, Wisconsin.

Application Number: 07-10-C-00-RHI.

Application Type: Impose and use a PFC.

PFC Level: $4.50.

Total PFC Revenue Approved in This Decision: $110,946.

Earliest Charge Effective Date: November 1, 2011.

Estimated Charge Expiration Date: May 1, 2012.

Class of Air Carriers Not Required to Collect PFC's: Air taxi/commercial operators filing FAA Form 1800-31.

Determination: Approved. Based on information contained in the public agency's application, the FAA has determined that the approved class accounts for less than 1 percent of the total annual enplanements at Rhinelander/Oneida County Airport.

Brief Description of Projects Approved for Collection and Use:

Acquire snow removal equipment.

Reconstruct/extend runway 15/33.

PFC administration.

Decision Date: November 27, 2006.

FOR FURTHER INFORMATION CONTACT: Nancy Cistler, Minneapolis Airports District Office, (612) 713-4353.

Public Agency: Cities of Fort Collins and Loveland, Colorado.

Application Number: 07-05-C-00-FNL.

Application Type: Impose and use a PFC.

PFC Level: $4.50

Total PFC Revenue Approved in This Decision: $353,976.

Earliest Charge Effective Date: March 1, 2007.

Estimated Charge Expiration Date: November 1, 2009.

Class of Air Carriers Not Required to Collect PFC's: None.

Brief Description of Projects Approved for Collection and Use:

Rehabilitate apron, phases 1 and 2 design.

Security enhancements 1.

Acquire snow removal equipment.

Acquire terminal hold room and baggage claim.

Acquire handicap passenger device.

Rehabilitate taxiway A.

Security enhancements 2.

Pavement maintenance.

Rehabilitate and strengthen runway 15/33.

Replace runway 15/33 high intensity runway lights.

Decision Date: November 29, 2006.

FOR FURTHER INFORMATION CONTACT: Christopher J. Schaffer, Denver Airports District Office, (303) 342-1258.

Public Agency: Cedar City Corporation, Cedar City, Utah.

Application Number: 07-01-C-00-CDC.

Application Type: Impose and use a PFC.

PFC Level: $4.50.

Total PFC Revenue Approved in This Decision: $229,900.

Earliest Charge Effective Date: February 1, 2007.

Estimated Charge Expiration Date: October 1, 2011.

Class of Air Carriers Not Required to Collect PFC's: Non-scheduled/on-demand air carriers filing FAA Form 1800-31.

Determination: Approved. Based on information contained in the public agency's application, the FAA has determined that the approved class accounts for less than 1 percent of the total annual enplanements at Cedar City Regional Airport.

Brief Description of Projects Approved for Collection and Use:

Construct new terminal and associated apron.

Purchase aircraft rescue and firefighting vehicle.

Decision Date: December 6, 2006.

FOR FURTHER INFORMATION CONTACT: Christopher J. Schaffer, Denver Airports District Office, (303) 342-1258.

Public Agency: County of San Joaquin, Stockton, California.

Application Number: 07-01-C-00-SCK.

Application Type: Impose and use a PFC.

PFC Level: $4.50.

Total PFC Revenue Approved in This Decision: $322,665.

Earliest Charge Effective Date: February 1, 2007.

Estimated Charge Expiration Date: August 1, 2009.

Class of Air Carriers Not Required to Collect PFC's: None.

Brief Description of Projects Approved for Collection and Use:

Construct northeast air cargo apron, connecting taxiway, and associated utilities.

Rehabilitate terminal apron.

Construct general aviation aprons.

Construct connecting taxiway D-7 and portion of parallel taxiway D.

Upgrade airport security.

PFC administration.

Decision Date: December 21, 2006.

FOR FURTHER INFORMATION CONTACT: Peter Long, San Francisco, Airports District Office, (650) 876-2778, extension 624.

Amendments to PFC Approvals
Amendment No., city, state | Amendment approved date | Original approved net PFC revenue | Amended approved net PFC revenue | Original estimated charge exp. date | Amended estimated charge exp. date
05-17-C-01-CHO, Charlottesville, VA | 11/20/06 | $2,871,360 | $2,942,084 | 07/01/09 | 06/01/09
05-04-C-01-FNL, Fort Collins, CO | 11/29/06 | 315,329 | 276,130 | 11/01/07 | 03/01/07
03-06-C-01-MLB, Melbourne, FL | 11/29/06 | 8,563,500 | 6,806,435 | 06/01/18 | 09/01/17
96-03-C-02-RHI, Rhinelander, WI | 11/29/06 | 363,927 | 352,997 | 07/01/00 | 07/01/00
96-05-C-03-MDW, Chicago, IL | 12/01/06 | 178,087,493 | 178,087,493 | 11/01/20 | 11/01/16
02-03-U-01-PUW, Pullman, WA | 12/13/05 | NA | NA | 10/01/05 | 10/01/05
02-04-C-03-MOB, Mobile, AL | 12/05/06 | 3,160,496 | 3,365,372 | 02/01/17 | 02/01/07
01-03-I-02-TEX, Telluride, CO | 12/06/06 | 215,000 | 268,750 | 02/01/06 | 01/01/08
05-04-U-01-TEX, Telluride, CO | 12/06/06 | NA | NA | 02/01/06 | 01/01/08

Issued in Washington, DC, on January 3, 2007.
Joe Hebert,
Manager, Financial Analysis and Passenger Facility Charge Branch.

[FR Doc. 07-46 Filed 1-9-07; 8:45 am]

BILLING CODE 4910-13-M